DEPARTMENT OF HEALTH AND HUMAN SERVICES

National Institutes of Health

Notice To Announce Webinar To Request Public Input on Upcoming Surgeon General's Report on Oral Health

AGENCY: National Institutes of Health, HHS.

ACTION: Notice.

SUMMARY: The National Institutes of Health (NIH), National Institute of Dental and Craniofacial Research (NIDCR), is announcing a webinar to provide background information pertaining to the commissioning of a new report on oral health by the Surgeon General and to obtain public input on the report.

DATES: The webinar will be held on Thursday, January 10, 2019 from 12:00-12:30 p.m. EST. Written comments must be received before January 25, 2019.

ADDRESSES: The webinar will be held by teleconference and online. Information is available at: www.nidcr.nih.gov/SGReport-Oral-Health. You may submit written comments by: Email: NIDCR-SGROH@nidcr.nih.gov; or Mail: Ms. Michelle Pitt, NIH/NIDCR, 31 Center Drive, Room 5B55, Bethesda, MD 20892.

FOR FURTHER INFORMATION CONTACT: Bruce A. Dye, DDS, MPH, Dental Epidemiology Officer, Office of Science Policy and Analysis, NIH/NIDCR, 31 Center Drive, Room 5B55, Rockville, MD 20892. Email: bruce.dye@nih.gov.

SUPPLEMENTARY INFORMATION: The webinar will update the public on the status of the new Surgeon General's Report on Oral Health and provide an opportunity for the public to submit comments to help guide development of the report. Additional information about the upcoming report was published in a previous Federal Register Notice on July 27, 2018, 83 FR 35664. Interested persons or organizations are invited to submit written views on oral health, including the importance of poor oral health as a public health issue, contemporary issues affecting oral health, new knowledge that may transform the oral health of the nation, and future directions. NIDCR is also interested in receiving examples of partnerships or coalitions that have demonstrated improvement of oral health and wellbeing of individuals, families, or communities.

Please note that comments received, including any supplemental material provided with the comments, are part of the public record and subject to public disclosure. Do not include any information in your comment or supporting materials that you consider confidential or inappropriate for public disclosure. NIDCR will carefully consider all comments submitted and may include relevant information in the upcoming Surgeon General's Report on Oral Health.

Dated: December 12, 2018.
Lawrence A. Tabak,
Deputy Director, National Institutes of Health.

[FR Doc. 2018-27363 Filed 12-17-18; 8:45 am]

BILLING CODE 4140-01-P